DEPARTMENT OF ENERGY

Federal Energy Regulatory Commission

Notice of Effectiveness of Exempt Wholesale Generator or Foreign Utility Company Status

May 11, 2007.

| Docket Nos.
North Wind Cooperative | EG07-36-000
Besicorp-Empire Power Company, LLC | EG07-37-000
Post Oak Wind, LLC | EG07-38-000
Bullard Energy Center, LLC | EG07-39-000
Diablo Winds, LLC | EG07-40-000
Panoche Energy Center, LLC | FC07-7-000
Spectra Energy Corporation & Union Gas Limited | FC07-8-000
AES TEG/TEP Holding B.V | FC07-9-000
Airtricity Holdings Ltd. | FC07-10-000
Generadora Montecristo S.A., Enel Guatemala S.A | FC07-11-000

Take notice that during the month of April 2007, the status of the above-captioned entities as Exempt Wholesale Generators or Foreign Utility Companies became effective by operation of the Commission's regulations. 18 CFR 366.7(a).

Kimberly D. Bose,
Secretary.

[FR Doc. E7-9684 Filed 5-18-07; 8:45 am]

BILLING CODE 6717-01-P